DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security.

Title: BIS Program Evaluation.

Agency Form Number: N/A.

OMB Approval Number: 0694-0125.

Type of Request: Emergency clearance.

Burden: 650 hours.

Average Time Per Response: 10 minutes per response.

Number of Respondents: 3,900 respondents.

Needs and Uses: This survey capability is needed by BIS seminar instructors at seminar programs throughout the year. Seminar participants will be asked to fill out the evaluation form during the program and turn it in at the end of the program. The responses to these questions will provide useful and practical information that BIS can use to determine that it is providing a quality program and gives BIS information useful to making recommended improvements.

Affected Public: Individuals, businesses or other for-profit institutions.

Respondent's Obligation: Voluntary.

OMB Desk Officer: David Rostker.

Copies of the above information collection proposal can be obtained by calling or writing Diana Hynek, DOC Paperwork Clearance Officer, (202) 482-0266, Department of Commerce, Room 6625, 14th and Constitution Avenue, NW., Washington, DC 20230.

Written comments and recommendations for the proposed information collection should be sent within 30 days of publication of this notice to David Rostker, OMB Desk Officer, Room 10202, New Executive Office Building, Washington, DC 20230.

Dated: March 14, 2003.
Madeleine Clayton,
Management Analyst, Office of the Chief Information Officer.

[FR Doc. 03-6572 Filed 3-18-03; 8:45 am]

BILLING CODE 3510-33-P